DEPARTMENT OF THE INTERIOR

Bureau of Land Management

[AK-963-1410-FQ; F-14223]

Notice of Correction to Public Land Order Number 7692

AGENCY: Bureau of Land Management, Interior.

ACTION: Notice of correction.

SUMMARY: On March 25, 2008, the Bureau of Land Management published a PLO in the Federal Register [73 FR 15733] concerning the Partial Revocation of Public Land Order Number 5150.

“Settlement Act, 43 U.S.C. 1631(h)(4) and * * *” correct to read “* * * Settlement Act 43 U.S.C. 1613(h)(4) and * * *”

FOR FURTHER INFORMATION CONTACT: Renee Fencl at (907) 271-5067.

Dated: March 23, 2009.
Ramona Chinn,
Deputy State Director, Alaska Lands.

[FR Doc. E9-7706 Filed 4-6-09; 8:45 am]

BILLING CODE 4310-JA-P